GENERAL SERVICES ADMINISTRATION

Interagency Committee for Medical Record (ICMR); Automation of Medical Standard Form 603A

AGENCY: Office of Communications, GSA.

ACTION: Guideline on automating medical standard forms.

Background

The Interagency Committee on Medical Records (ICMR) is aware of numerous activities using computer-generated medical forms, many of which are not mirror-like images of the genuine paper Standard/Optional Form. With GSA's approval the ICMR eliminated the requirement that every electronic version of a medical Standard/Optional form be reviewed and granted an exception. The committee proposes to set required fields standards and that activities developing computer-generated versions adhere to the required fields but not necessarily to the image. The ICMR plans to review medical Standard/Optional forms which are commonly used and/or commonly computer-generated. We will identify those fields which are required, those (if any) which are optional, and the required format (if necessary). Activities may not add or delete data elements that would change the meaning of the form. This would require written approval from the ICMR. Using the process by which overprints are approved for paper Standard/Optional forms, activities may add other data entry elements to those required by the committee. With this decision, activities at the local or headquarters level should be able to develop electronic versions which meet the committee's requirements. This guideline controls the “image” or required fields but not the actual entered into the field.

SUMMARY: With GSA's approval, the Interagency Committee of Medical Records (ICMR) eliminated the requirement that every electronic version of a medical Standard/Optional form be reviewed and granted an exception. The following fields must appear on the electronic version of the following form:

Electronic Elements for SF 603A
Item | Placement *
Dental—Continuation | Top of form
Standard Form 603A (Rev. 11/2002) (Form ID) | Bottom right corner of form.
Data Entry Fields:
Section III. Attendance Record (text) | Above items listed below.
15. Restorations and Treatments (Completed during service) (text) | Above Items listed below.
(Graphic of full set of teeth with each tooth numbered. Numbers will range from 1 to 32)
Remarks
16. Subsequent Diseases and Abnormalities | Above items listed below.
(Graphic of full set of teeth with each tooth numbered. Numbers will range from 1 to 32)
Remarks
17. Services Rendered (text) | Above Items listed below.
Date (Allow for at least 21 entries)
Diagnosis-Treatment (Allow for at least 21 entries)
Class (Allow for at least 21 entries)
Operator and Dental Facility (Allow for at least 21 entries)
Initials (Allow for at least 21 entries)
Relationship to Sponsor
Sponsor's Name—Last
Sponsor's Name—First
Sponsor's Name—Middle Initial
Sponsor's Identification Number (Social Security Number or Other)
Department/Service
Hospital or Medical Facility
Records Maintained At
Register Number
Ward Number
If collected data covers more than one page, the following elements apply:
Last Name | Top of every even page.
First Name | Do.
Middle Initial | Do.
ID Number | Do.
* If no specific placement, data element may be in any order.

FOR FURTHER INFORMATION CONTACT: CDR Katherine Ciacco Palatianos, Indian Health Service, Department of Health and Human Services, Rockville, MD 20857 or e-mail at kciacco@hqe.ihs.gov.

Dated: April 24, 2003.
Katherine Ciacco Palatianos,
Chairperson, Interagency Committee on Medical Records.

[FR Doc. 03-11217 Filed 5-6-03; 8:45 am]

BILLING CODE 6820-34-M